DEPARTMENT OF TRANSPORTATION

Federal Aviation Administration

14 CFR Part 71

[Docket No. FAA-2023-2453; Airspace Docket No. 23-ANM-57]

RIN 2120-AA66

Amendment of Very High Frequency Omnidirectional Range Federal Airway V-4 in the Vicinity of Burley, ID

AGENCY: Federal Aviation Administration (FAA), DOT.

ACTION: Final rule; withdrawal.

SUMMARY: This action withdraws the final rule published in the Federal Register on January 11, 2024, amending Very High Frequency Omnidirectional Range (VOR) Federal Airway V-4 in the vicinity of Burley, ID. Unanticipated issues affecting the completion of this action have made this withdrawal action necessary.

DATES: Effective date 0901 UTC, March 7, 2024, the final rule published on January 11, 2024 (89 FR 1801) is withdrawn.

FOR FURTHER INFORMATION CONTACT: Steven Roff, Rules and Regulations Group, Office of Policy, Federal Aviation Administration, 800 Independence Avenue SW, Washington, DC 20591; telephone: (202) 267-8783.

SUPPLEMENTARY INFORMATION:

History

The FAA published a final rule in the Federal Register for Docket No. FAA-2023-2453 (89 FR 1801, January 11, 2024) amending VOR Federal Airway V-4 in the vicinity of Burley, ID. The effective date of that rule is March 21, 2024. The final rule incorrectly listed the airspace docket number as 22-ANM-57. The correct docket number is 23-ANM-57. After publishing the final rule, the FAA discovered unintended consequences to Instrument Flight Rules (IFR) procedures caused by the airway amendment. As a result, the FAA is withdrawing this action until the amendments to the airway and IFR procedures can be published concurrently. The FAA plans to publish another final rule with a new airspace docket number in the future to amend VOR Federal Airway V-4.

The Withdrawal

Accordingly, pursuant to the authority delegated to me, the final rule published in the Federal on January 11, 2024 (89 FR 1801), FR Doc. 2024-00071, is hereby withdrawn.

Issued in Washington, DC, on February 29, 2024.
Frank Lias,
Manager, Rules and Regulations Group.

[FR Doc. 2024-04758 Filed 3-6-24; 8:45 am]

BILLING CODE 4910-13-P